DEPARTMENT OF HEALTH AND HUMAN SERVICES

Office of the Secretary

Office of Minority Health; Notice of a Cooperative Agreement With the National Association for Equal Opportunity in Higher Education

AGENCY: Office of the Secretary, Office of Minority Health.

ACTION: Notice of a Cooperative Agreement with the National Association for Equal Opportunity in Higher Education.

The Office of Minority Health (OMH), Office of Public Health and Science, announces its intent to continue support of the umbrella cooperative agreement with the National Association for Equal Opportunity in Higher Education (NAFEO). This cooperative agreement will continue the broad programmatic framework in which specific projects can be supported by various governmental agencies during the project period.

The purpose of this cooperative agreement is to assist NAFEO in expanding and enhancing its activities relevant to education, health promotion, disease prevention, and family and youth violence prevention, with the ultimate goal of improving the health status of minorities and disadvantaged people.

The OMH will provide technical assistance and oversight as necessary for the implementation, conduct, and assessment of the project activities. On an as-needed basis, OMH will assist in arranging consultation from other government agencies and non-government agencies.

Authority: This cooperative agreement is authorized under Section 1707(e)(1) of the Public Health Service Act, as amended.

Background

Assistance will continue to be provided to NAFEO. During the last 3 years, NAFEO has successfully demonstrated the ability to work with health agencies on activities relevant to education, health promotion, disease prevention, and family and youth violence prevention. The NAFEO is uniquely qualified to continue to accomplish the purposes of this cooperative agreement because it has the following combination of factors:

• It has a well developed infrastructure and communications network to coordinate and implement various health promotion and prevention educational programs within the Historically Black Colleges and Universities (HBCUs) and with local community organizations in close proximity to their campuses. It is the only organization of its kind that works exclusively with both public and private, two- and four-year, graduate, and professional Black colleges and universities. Since the presidents of the black colleges and universities represent their institutions in NAFEO, it has a direct linkage that would facilitate the coordination of activities that will benefit all of these institutions. NAFEO has extensive experience in convening general conferences and specific technical assistance workshops for black colleges and universities.

This experience provides a foundation upon which to develop and promote health education related programs aimed at preventing and reducing unnecessary morbidity and mortality among African American populations.

• It has established itself and its members as a national association with professionals who serve as leaders and experts in planning, developing, implementing, and promoting educational and policy campaigns (locally and nationally) aimed at reducing adverse health behaviors and improving the African American community's overall educational and social well being.

• It has experience in implementing workshops to assist specific Federal agencies in involving HBCUs in an appropriate and effective manner in their programs, which includes working with Department of Defense (DOD) to increase participation of HBCUs in DOD funded activities as prime contractors, subcontractors, collaborators, or partners with industry, major research universities, and small and disadvantaged businesses. This also includes conducting approximately 15 Defense Technical Assistance workshops to increase the participation of HBCUs and other minority institutions in the DOD procurement process.

• It has developed a base of critical knowledge, skills, and abilities related to HBCU issues including health and social problems. Through the collective efforts of its members, community-based organizations, and volunteers, NAFEO has demonstrated (1) the ability to work with academic institutions and health groups on mutual education, research, and health endeavors relating to the goal of health promotion and disease prevention in African American communities; (2) the leadership necessary to attract minority students into public service and health careers; and (3) the leadership needed to assist health care professionals to work more effectively with African American clients and communities.

This cooperative agreement will be continued for an additional five-year project period with 12-month budget periods. Depending upon the types of projects and availability of funds, it is anticipated that this cooperative agreement will receive approximately $100,000 per year. Continuation awards within the project period will be made on the basis of satisfactory progress and the availability of funds.

Where To Obtain Additional Information

If you are interested in obtaining additional information regarding this cooperative agreement, contact Ms. Cynthia Amis, Office of Minority Health, 5515 Security Lane, Suite 1000, Rockville, Maryland 20852 or telephone (301) 594-0769.

OMB Catalog of Federal Domestic Assistance

(The Catalog of Federal Domestic Assistance Number for this cooperative agreement is 93.004.)
Dated: June 13, 2000.
Nathan Stinson, Jr.,
Deputy Assistant Secretary for Minority Health.

[FR Doc. 00-16122 Filed 6-26-00; 8:45 am]

BILLING CODE 4160-17-P